DEPARTMENT OF COMMERCE

Foreign-Trade Zones Board

Order No. 1560

Grant of Authority for Subzone Status, SACMI USA, Ltd. (Packaging and Food Processing Equipment), Urbandale, Iowa

Pursuant to its authority under the Foreign-Trade Zones Act of June, 18, 1934, as amended (19 U.S.C. 81a-81u), the Foreign-Trade Zones Board (the Board) adopts the following Order:

Whereas, the Foreign-Trade Zones Act provides for “ the establishment of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Iowa Foreign-Trade Zone Corporation, grantee of FTZ 107, has made application to the Board for authority to establish a special-purpose subzone for the manufacture of packaging and food-processing equipment at the facility of SACMI USA, Ltd., located in Urbandale, Iowa (FTZ Docket 40-2007, filed 8-23-07);

Whereas, notice inviting public comment was given in the Federal Register (72 FR 49699, 8/29/07); and,

Whereas, the Board adopts the findings and recommendations of the examiner's report, and finds that the requirements of the FTZ Act and the Board's regulations are satisfied, and that approval of the application is in the public interest;

Now, therefore, the Board hereby grants authority for subzone status for activity related to packaging and food-processing equipment manufacturing at the facility of SACMI USA, Ltd., located in Urbandale, Iowa (Subzone 107B), as described in the application and Federal Register notice, and subject to the FTZ Act and the Board's regulations, including Section 400.28.

Signed at Washington, DC, this 20th day of May 2008.

David M. Spooner,
Assistant Secretary of Commerce for Import Administration, Alternate Chairman, Foreign-Trade Zones Board.
Attest:
Pierre Duy,
Acting Executive Secretary.

[FR Doc. E8-12397 Filed 6-2-08; 8:45 am]

BILLING CODE 3510-DS-S